DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Pacific Tuna Fisheries Logbook.

OMB Control Number: 0648-0148.

Form Number(s): NA.

Type of Request: Regular submission (extension of a current information collection).

Number of Respondents: 11.

Average Hours Per Response: 5 minutes.

Burden Hours: 96.

Needs and Uses: This request is for extension of a currently approved information collection.

United States (U.S.) participation in the Inter-American Tropical Tuna Commission (IATTC) results in certain recordkeeping requirements for U.S. fishermen who fish in the IATTC's area of management responsibility. These fishermen must maintain a log of all operations conducted from the fishing vessel, including the date, noon position, and the tonnage of fish aboard the vessel, by species. The logbook form provided by the IATTC is universally used by U.S. fishermen to meet this recordkeeping requirement. The information in the logbooks includes areas and times of operation and catch and effort by area. Logbook data are used in stock assessments and other research concerning the fishery. If the data were not collected or if erroneous data were provided, the IATTC assessments would likely be incorrect and there would be an increased risk of overfishing or inadequate management of the fishery.

Affected Public: Business or other for-profit organizations.

Frequency: Daily when on fishing trips.

Respondent's Obligation: Mandatory.

This information collection request may be viewed at reginfo.gov. Follow the instructions to view Department of Commerce collections currently under review by OMB.

Written comments and recommendations for the proposed information collection should be sent within 30 days of publication of this notice to OIRA_Submission@omb.eop.gov or faxed to (202) 395-5806.

Dated: April 14, 2014.
Gwellnar Banks,
Management Analyst, Office of the Chief Information Officer.

[FR Doc. 2014-08835 Filed 4-17-14; 8:45 am]

BILLING CODE 3510-JE-P